DEPARTMENT OF TRANSPORTATION

Federal Highway Administration

Buy America Waiver Notification

AGENCY: Federal Highway Administration (FHWA), DOT.

ACTION: Notice.

SUMMARY: This notice provides information regarding the FHWA's finding that a Buy America waiver is appropriate for the use of non-domestic (1) Galvanized ground bushing (¾″-4″) for electrical systems; (2) Form 5/Form 7 conduit body assembly (1.5″, 2″); and (3) sealing locknuts (1.5″, 2″), for Federal-aid project #X-STP-5900 (212), South Auditorium lighting, phase 1, in Portland, Oregon.

DATES: The effective date of the waiver is August 16, 2011.

FOR FURTHER INFORMATION CONTACT: For questions about this notice, please contact Mr. Gerald Yakowenko, FHWA Office of Program Administration, (202) 366-1562, or via e-mail at gerald.yakowenko@dot.gov. For legal questions, please contact Mr. Michael Harkins, FHWA Office of the Chief Counsel, (202) 366-4928, or via e-mail at michael.harkins@dot.gov. Office hours for the FHWA are from 7:45 a.m. to 4:15 p.m., e.t., Monday through Friday, except Federal holidays.

SUPPLEMENTARY INFORMATION:

Electronic Access

An electronic copy of this document may be downloaded from the Federal Register's home page at: http://www.archives.gov and the Government Printing Office's database at: http://www.access.gpo.gov/nara.

Background

The FHWA's Buy America policy in 23 CFR 635.410 requires a domestic manufacturing process for any steel or iron products (including protective coatings) that are permanently incorporated in a Federal-aid construction project. The regulation also provides for a waiver of the Buy America requirements when the application would be inconsistent with the public interest or when satisfactory quality domestic steel and iron products are not sufficiently available. This notice provides information regarding the FHWA's finding that a Buy America waiver is appropriate to use non-domestic (1) Galvanized ground bushing (¾″-4″) for electrical systems; (2) Form 5/Form 7 conduit body assembly (1.5″, 2″); and (3) sealing locknuts (1.5″, 2″), for Federal-aid project #X-STP-5900(212), South Auditorium lighting, phase 1, in Portland, Oregon.

In accordance with Division A, section 123 of the “Consolidated Appropriations Act, 2010” (Pub. L. 111-117), the FHWA published a notice of intent to issue a waiver on its Web site for (1) Galvanized ground bushing (¾″-4″) for electrical systems; (2) Form 5/Form 7 conduit body assembly (1.5″, 2″); and (3) Sealing Locknuts (1.5″, 2″) for the Federal-aid project in Oregon (http://www.fhwa.dot.gov/construction/contracts/waivers.cfm?id=52) on January 10th. The FHWA received six comments in response to the publication. Four comments opposed the approval of the waiver request but did not suggest any domestic manufacturer of the galvanized ground bushing (¾″-4″), Form 5/Form 7 conduit body assembly (1.5″, 2″), or sealing locknuts (1.5″, 2″). One commenter supported granting the waiver, and the sixth commenter did not express support or opposition toward the waiver. During the 15-day comment period, the FHWA conducted additional nationwide review to locate potential domestic manufacturers for galvanized ground bushing (¾″-4″), Form 5/Form 7 conduit body assembly (1.5″, 2″), and sealing locknuts (1.5″, 2″). Based on all the information available to the agency, the FHWA concludes that there are no domestic manufacturers of galvanized ground bushing (¾″-4″), Form 5/Form 7 conduit body assembly (1.5″, 2″), and sealing locknuts (1.5″, 2″) for the Federal-aid project #X-STP-5900(212).

In accordance with the provisions of section 117 of the SAFETEA-LU Technical Corrections Act of 2008 (Pub. L. 110-244, 122 Stat. 1572), the FHWA is providing this notice as its finding that a waiver of Buy America requirements is appropriate. The FHWA invites public comment on this finding for an additional 15 days following the effective date of the finding. Comments may be submitted to the FHWA's Web site via the link provided to the Oregon waiver page noted above.

Authority: 23 U.S.C. 313; Pub. L. 110-161, 23 CFR 635.410.

Issued on: August 4, 2011.
Victor M. Mendez,
Federal Highway Administrator.

[FR Doc. 2011-20667 Filed 8-12-11; 8:45 am]

BILLING CODE 4910-22-P